ENVIRONMENTAL PROTECTION AGENCY

[Petitions IV-2024-5; FRL-12205-01-R4]

Clean Air Act Operating Permit Program; Order on Petition for Objection to State Operating Permit for Epic Alabama Maritime Assets, LLC, Alabama Shipyard, LLC (Mobile County, Alabama)

AGENCY: Environmental Protection Agency (EPA).

ACTION: Notice of final order on petition.

SUMMARY: The EPA Administrator signed an order dated August 16, 2024, granting in part and denying in part the petition dated March 28, 2024, from Mobile Environmental Justice Action Coalition and Greater-Birmingham Alliance to Stop Pollution (GASP). The petition requested that EPA object to the Clean Air Act (CAA) title V operating permit issued by the Alabama Department of Environmental Management (ADEM) to Epic Alabama Maritime Assets, LLC, Alabama Shipyard, LLC (Alabama Shipyard) for its facility located in Mobile, Mobile County, Alabama.

FOR FURTHER INFORMATION CONTACT: Art Hofmeister, Air Permits Section, EPA Region 4, (404) 562-9115, hofmeister.art@epa.gov. The final order and petition are available at: https://www.epa.gov/title-v-operating-permits/title-v-petition-database.

SUPPLEMENTARY INFORMATION: EPA received a petition from Mobile Environmental Justice Action Coalition and GASP dated March 28, 2024, requesting that EPA object to the issuance of operating permit no. 503-6001, issued by ADEM to Alabama Shipyard in Mobile, Mobile County, Alabama. On August 16, 2024, the EPA Administrator issued an order granting in part and denying in part the petition. The order itself explains the bases for EPA's decision. Sections 307(b) and 505(b)(2) of the CAA provide that a petitioner may request review of those portions of an order that deny issues in a petition. Any petition for review shall be filed in the United States Court of Appeals for the appropriate circuit no later than November 15, 2024.

Dated: September 10, 2024.
Jeaneanne Gettle,
Acting Regional Administrator, Region 4.

[FR Doc. 2024-20925 Filed 9-13-24; 8:45 am]

BILLING CODE P